DEPARTMENT OF VETERANS AFFAIRS

[OMB Control No. 2900-0776 (DBQs—Group 2)]

Proposed Information Collection (Disability Benefits Questionnaires—Group 2) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension without change of a currently approved collection and allow 60 days for public comment in response to the notice. This notice solicits comments for information needed to obtain medical evidence to adjudicate a claim for disability benefits.

DATES: Written comments and recommendations on the proposed collection of information should be received on or before March 18, 2014.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0776 (DBQs—Group 2)” in any correspondence. During the comment period, comments may be viewed online through FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Arteries and Veins Conditions (Vascular Diseases including Varicose Veins) Disability Benefits Questionnaire, VA Form 21-0960A-2.

b. Hypertension Disability Benefits Questionnaire, VA Form 21-0960A-3.

c. Non-ischemic Heart Disease (including Arrhythmias and Surgery, Disability Benefits Questionnaire, VA Form 21-0960A-4.

d. Diabetic Peripheral Neuropathy (Diabetic Sensory-Motor Peripheral Neuropathy), Disability Benefits Questionnaire, VA Form 21-0960C-4.

e. Diabetes Mellitus Disability Benefits Questionnaire, VA Form 21-0960E-1.

f. Scar/Disfigurement Disability Benefits Questionnaire, VA Form 21-0960F-1.

g. Skin Diseases Disability Benefits Questionnaire, VA Form 21-0960F-2.

h. Amputations Disability Benefits Questionnaire, VA Form 21-0960M-1.

i. Ankle Conditions Disability Benefits Questionnaire, VA Form 21-0960M-2.

j. Elbow and Forearm Conditions Disability Benefits Questionnaire, VA Form 21-0960M-4.

k. Flatfoot (PES PLANUS) Disability Benefits Questionnaire, VA Form 21-0960M-5.

l. Foot Miscellaneous (other than flatfoot/PES PLANUS), Disability Benefits Questionnaire, VA Form 21-0960M-6.

m. Hand and Finger Conditions Disability Benefits Questionnaire, VA Form 21-0960M-7.

n. Hip and Thigh Conditions Disability Benefits Questionnaire, VA Form 21-0960M-8.

o. Knee and Lower Leg Conditions Disability Benefits Questionnaire, VA Form 21-0960M-9.

p. Muscle Injuries Disability Benefits Questionnaire, VA Form 21-0960M-10.

q. Shoulder and Arm Conditions Disability Benefits Questionnaire, VA Form 21-0960M-12.

r. Temporomandibular Joint (TMJ) Conditions Disability Benefits Questionnaire, VA Form 21-0960M-15.

s. Wrist Conditions Disability Benefits Questionnaire, VA Form 21-0960M-16.

t. Eye Conditions Disability Benefits Questionnaire, VA Form 21-0960N-2.

OMB Control Number: 2900-0776 (DBQs—Group 2).

Type of Review: Extension without change of a currently approved collection.

Abstract: Data collected on VA Form 21-0960 series will be used obtain information from claimants treating physician that is necessary to adjudicate a claim for disability benefits.

Affected Public: Individuals or households.

Estimated Annual Burden:

a. VA Form 21-0960A-2—10,000.

b. VA Form 21-0960A-3—12,500.

c. VA Form 21-0960A-4—10,000.

d. VA Form 21-0960C-4—37,500.

e. VA Form 21-0960E-1—18,750.

f. VA Form 21-0960F-1—6,250.

g. VA Form 21-0960F-2—6,250.

h. VA Form 21-0960M-1—12,500.

i. VA Form 21-0960M-2—15,000.

j. VA Form 21-0960M-4—10,000.

k. VA Form 21-0960M-5—12,500.

l. VA Form 21-0960M-6—7,500.

m. VA Form 21-0960M-7—15,000.

n. VA Form 21-0960M-8—25,000.

o. VA Form 21-0960M-9—25,000.

p. VA Form 21-0960M-10—15,000.

q. VA Form 21-0960M-12—25,000.

r. VA Form 21-0960M-15—3,750.

s. VA Form 21-0960M-16—20,000.

t. VA Form 21-0960N-2—30,000.

Estimated Average Burden per Respondent:

a. VA Form 21-0960A-2—30 minutes.

b. VA Form 21-0960A-3—15 minutes.

c. VA Form 21-0960A-4—30 minutes.

d. VA Form 21-0960C-4—30 minutes.

e. VA Form 21-0960E-1—15 minutes.

f. VA Form 21-0960F-1—15 minutes.

g. VA Form 21-0960F-2—15 minutes.

h. VA Form 21-0960M-1—30 minutes.

i. VA Form 21-0960M-2—30 minutes.

j. VA Form 21-0960M-4—30 minutes.

k. VA Form 21-0960M-5—15 minutes.

l. VA Form 21-0960M-6—15 minutes.

m. VA Form 21-0960M-7—30 minutes.

n. VA Form 21-0960M-8—30 minutes.

o. VA Form 21-0960M-9—30 minutes.

p. VA Form 21-0960M-10—30 minutes.

q. VA Form 21-0960M-12—30 minutes.

r. VA Form 21-0960M-15—15 minutes.

s. VA Form 21-0960M-16—30 minutes.

t. VA Form 21-0960N-2—45 minutes.

Frequency of Response: On occasion.

Estimated Number of Respondents:

a. VA Form 21-0960A-2—20,000.

b. VA Form 21-0960A-3—50,000.

c. VA Form 21-0960A-4—20,000.

d. VA Form 21-0960C-4—75,000.

e. VA Form 21-0960E-1—75,000.

f. VA Form 21-0960F-1—25,000.

g. VA Form 21-0960F-2—25,000.

h. VA Form 21-0960M-1—25,000.

i. VA Form 21-0960M-2—30,000.

j. VA Form 21-0960M-4—20,000.

k. VA Form 21-0960M-5—50,000.

l. VA Form 21-0960M-6—30,000.

m. VA Form 21-0960M-7—30,000.

n. VA Form 21-0960M-8—50,000.

o. VA Form 21-0960M-9—50,000.

p. VA Form 21-0960M-10—30,000.

q. VA Form 21-0960M-12—50,000.

r. VA Form 21-0960M-15—15,000.

s. VA Form 21-0960M-16—40,000.

t. VA Form 21-0960N-2—40,000.

Dated: January 13, 2014.
By direction of the Secretary.
Crystal Rennie,
VA Clearance Officer, Department of Veterans Affairs.

[FR Doc. 2014-00782 Filed 1-16-14; 8:45 am]

BILLING CODE 8320-01-P